DEPARTMENT OF TRANSPORTATION

Federal Aviation Administration

Aviation Rulemaking Advisory Committee; Transport Airplane and Engine Issues—Implementation of Previously Assigned Task Item

AGENCY: Federal Aviation Administration (FAA), DOT.

ACTION: Notice of implementation of previously assigned task item for the Aviation Rulemaking Advisory Committee (ARAC).

SUMMARY: The FAA has assigned the Aviation Rulemaking Advisory Committee (ARAC) to disposition certain technical comments through the Transport Airplane and Engine Issues Group (TAEIG) and its Design for Security Harmonization Working Group (DSHWG). This notice is to inform the public of this ARAC activity.

FOR FURTHER INFORMATION CONTACT: Jeff Gardlin, Federal Aviation Administration, Transport Airplane Directorate (ANM-115), Northwest Mountain Region Headquarters, 1601 Lind Ave., SW., Renton, WA 98055-4056; telephone: (425) 227-2136; fax: 425-227-1320 e-mail: jeff.gardlin@faa.gov.

SUPPLEMENTARY INFORMATION:

Background

The FAA established the Aviation Rulemaking Advisory Committee to provide advice and recommendations to the FAA Administrator on the FAA's rulemaking activities for aviation-related issues. This includes obtaining advice and recommendations on the FAA's commitments to harmonize Title 14 of the Code of Federal Regulations (14 CFR) with its partners in Europe and Canada.

The Task

In a tasking issued on October 20, 1999, (64 FR 57921, Oct. 27, 1999), the FAA assigned ARAC to provide advice and recommendations relative to the following issue:

Implementation of International Civil Aviation Organization (ICAO), Rules from Amendment 97 to Annex 8, Concerning Design for Security.

ARAC Acceptance of Task

ARAC accepted the task, and the TAEIG chose to establish the Design for Security Harmonization Working Group. As a part of that task, ARAC agreed that “If the resulting recommendation is one or more notices of proposed rulemaking (NPRM) published by the FAA, the FAA may ask ARAC to recommend disposition of any substantive comments the FAA receives.”

This notice is to inform the public that the following specific technical comments are assigned to the DSHWG:

• Consideration of structural deflections for system integrity

• Flight/dispatch regimes under which smoke protection capability is required

• System separation requirements in relation to other regulations (i.e., Sections 25.729(f) and 25.903(d))

• Definition of the system separation distance measurement

• Definition of object size for interior search

Issued in Washington, DC, on June 6, 2007.
Eve Taylor Adams,
Acting Director, Office of Rulemaking.

[FR Doc. E7-11606 Filed 6-14-07; 8:45 am]

BILLING CODE 4910-13-P